DEPARTMENT OF ENERGY

Federal Energy Regulatory Commission

[Docket No. RP02-497-000]

Transcontinental Gas Pipe Line Corporation; Notice of Refund Report

August 21, 2002.

Take notice that on August 14, 2002, Transcontinental Gas Pipe Line Corporation (Transco) filed a report reflecting the flow through of refunds received from Dominion Transmission, Inc.

On August 14, 2002, in accordance with Section 3 of its Rate Schedule GSS, Transco states that it refunded to its GSS customers $34,789.48 resulting from the refund of Dominion Transmission, Inc. Annual Overrun/Penalty Revenue Distribution. The refund covers the period from September 2001 to March 2002.

Any person desiring to be heard or to protest said filing should file a motion to intervene or a protest with the Federal Energy Regulatory Commission, 888 First Street, NE., Washington, DC 20426, in accordance with Sections 385.214 or 385.211 of the Commission's Rules and Regulations. All such motions or protests must be filed on or before August 28, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-21864 Filed 8-27-02; 8:45 am]

BILLING CODE 6717-01-P